SECURITIES AND EXCHANGE COMMISSION

[Release No. IC-25197]

Notice of Applications for Deregistration Under Section 8(f) of the Investment Company Act of 1940

September 28, 2001.

The following is a notice of applications for deregistration under section 8(f) of the Investment Company Act of 1940 for the month of September, 2001. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on October 23, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

IAI Investment Funds II, Inc. [File No. 811-7690]; IAI Investment Funds IV, Inc. [File No. 811-3004]; IAI Investment Funds VIII, Inc. [File No. 811-3767]

Summary: Each applicant seeks an order declaring that it has ceased to be an investment company. On September 18, 2000, each applicant transferred its assets to a corresponding series of Federated Equity Funds, based on net asset value. All expenses incurred in connection with the reorganizations were paid by Investment Advisers, Inc., applicants' investment adviser, and Federated Investors, parent company of the investment adviser to the acquiring funds.

Filing Date: The applications were filed on September 10, 2001.

Applicant's Address: 3700 U.S. Bank Place, 601 Second Avenue South, Minneapolis, MN 55402.

IAI Investment Funds I, Inc. [File No. 811-2747]

Summary: Applicant seeks an order declaring that it has ceased to be an investment company. On September 18, 2000, applicant transferred its assets to Federated Bond Fund, a series of Federated Investment Series Funds, Inc., based on net asset value. All expenses incurred in connection with the reorganization were paid by Investment Advisers, Inc., applicant's investment adviser, and Federated Investors, parent company of the investment adviser to the acquiring fund.

Filing Date: The application was filed on September 18, 2001.

Applicant's Address: 3700 U.S. Bank Place, 601 Second Avenue South, Minneapolis, MN 55402.

IAI Investment Funds III, Inc. [File No. 811-4904]

Summary: Applicant seeks an order declaring that it has ceased to be an investment company. On September 18, 2000, applicant transferred its assets to Federated International Equity Fund, a series of Federated International Series, Inc., based on net asset value. All expenses incurred in connection with the reorganization were paid by Investment Advisers, Inc., applicant's investment adviser, and Federated Investors, parent company of the investment adviser to the acquiring fund.

Filing Date: The application was filed on September 10, 2001.

Applicant's Address: 3700 U.S. Bank Place, 601 Second Avenue South, Minneapolis, MN 55402.

IAI Investment Funds VI, Inc. [File No. 811-5990]

Summary: Applicant seeks an order declaring that it has ceased to be an investment company. On September 18, 2000, each of applicant's five portfolios transferred their assets to a corresponding series of Federated Equity Funds or Money Market Obligations Trust, based on net asset value. All expenses incurred in connection with the reorganization were paid by Investment Advisers, Inc., applicant's investment adviser, and Federated Investors, parent company of the investment adviser to the acquiring funds.

Filing Date: The application was filed on September 10, 2001.

Applicant's Address: 3700 U.S. Bank Place, 601 Second Avenue South, Minneapolis, MN 55402.

IAI Investment Funds VII, Inc. [File No. 811-2147]

Summary: Applicant seeks an order declaring that it has ceased to be an investment company. On September 18, 2000, applicant transferred its assets to Federated American Leaders Fund, Inc., based on net asset value. All expenses incurred in connection with the reorganization were paid by Investment Advisers, Inc., applicant's investment adviser, and Federated Investors, parent company of the investment adviser to the acquiring fund.

Filing Date: The application was filed on September 10, 2001.

Applicant's Address: 3700 U.S. Bank Place, 601 Second Avenue South, Minneapolis, MN 55402.

Legg Mason Total Return Trust, Inc. [File No. 811-4308]

Summary: Applicant seeks an order declaring that it has ceased to be an investment company. On June 14, 2001, applicant transferred its assets to Legg Mason American Leading Companies Trust, a series of Legg Mason Investors Trust, Inc., based on net asset value. Expenses of $168,748 incurred in connection with the reorganization were paid by applicant's principal underwriter, Legg Mason Wood Walker, Incorporated.

Filing Date: The application was filed on September 13, 2001.

Applicant's Address: 100 Light St., Baltimore, MD 21202.

Investment Series Trust [File No. 811-5093]

Summary: Applicant seeks an order declaring that it has ceased to be an investment company. By October 12, 1994, each of applicant's three series had made a liquidating distribution to its shareholders based on net asset value. Applicant's investment adviser, Federated Investment Management Company, and/or its affiliates incurred all expenses in connection with the liquidation.

Filing Date: The application was filed on September 18, 2001.

Applicant's Address: Federated Investors Tower, 1001 Liberty Ave., Pittsburgh, PA 15222-3779

The Starburst Funds II [File No. 811-6119]

Summary: Applicant seeks an order declaring that it has ceased to be an investment company. On May 12, 1995, applicant transferred its assets to Starburst Government Income Fund, a portfolio of the Starburst Funds, based on net asset value. Applicant's investment adviser, Compass Bank, and/or ;its affiliates incurred all expenses in connection with the reorganization.

Filing Date: The application was filed on September 18, 2001.

Applicant's Address: Federated Investors Tower, 1001 Liberty Ave., Pittsburgh, PA 15222-3779.

Scudder Weisel Capital Entrepreneurs Fund [File No. 811-10169]

Summary: Applicant, a closed-end investment company, seeks an order declaring that it has ceased to be an investment company. On April 30, 2001, applicant made a final liquidating distribution to its shareholders based on net asset value. Expenses of $15,000 incurred in connection with the liquidation were paid by applicant's investment adviser, Scudder Weisel Capital LLC.

Filing Dates: The application was filed on July 26, 2001, and amended on September 13, 2001.

Applicant's Address: 88 Kearny St., Suite 2100, San Francisco, CA 94108.

Scudder Weisel Capital Funds [File No. 811-10251]

Summary: Applicant seeks an order declaring that it has ceased to be an investment company. Applicant has never made a public offering of its securities and does not propose to make a public offering or engage in business of any kind.

Filing Dates: The application was filed on July 26, 2001, and amended on September 13, 2001.

Applicant's Address: 88 Kearny St., Suite 2100, San Francisco, CA 94108.

Blanchard Funds [File No. 811-4579]

Summary: Applicant seeks an order declaring that it has ceased to be an investment company. On February 27, 1998, applicant transferred its assets to Evergreen Equity Trust, Evergreen International Trust, Evergreen Municipal trust and Evergreen Fixed Income Trust, based on net asset value. Applicant incurred no expenses in connection with the reorganization.

Filing Date: The application was filed on August 31, 2001.

Applicant's Address: 5800 Corporate Dr., Pittsburgh, PA 15237-7000.

Putnam Investment Grade Municipal Trust III [File 811-7099]

Summary: Applicant, a close-end management investment company, seeks an order declaring that it has ceased to be an investment company. On July 23, 2001, applicant transferred its assets to Putnam Municipal Bond Fund (formerly known as Putnam Investment Grade Municipal Trust II) (the “Acquiring Fund”) based on met asset value. Applicant's preferred shareholders received preferred shares of the Acquiring Fund having an aggregate liquidation preference equal to the aggregate liquidation preference of applicant's outstanding preferred shares. Expenses of $444,000 incurred in connection with the reorganization were paid by applicant and the Acquiring Fund.

Filing Date: The application was filed on August 31, 2001.

Applicant's Address: One Post Office Square, Boston, MA 02109.

California Municipal Cash Trust [File No. 811-5760]

Summary: Applicant seeks an order declaring that it has ceased to be an investment company. On August 12, 1994, applicant transferred its assets to California Municipal Cash Trust, a portfolio of Money Market Obligations Trust, based on net asset value. Applicant incurred no expenses in connection with the reorganization.

Filing Date: The application was filed on August 31, 2001.

Applicant's Address: 5800 Corporate Dr., Pittsburgh PA 15237-7000.

The Harvest Funds [File No. 811-9211]

Summary: Applicant seeks an order declaring that it has ceased to be an investment company. On March 29, 2001, applicant transferred its assets to Calvert South Africa Fund, a series of Calvert Impact Fund, Inc., based on net asset value. Expenses of $19,770 incurred in connection with the reorganization were paid pro rata by applicant and the surviving fund.

Filing Date: The application was filed on August 29, 2001.

Applicant's Address: 112 Ballymeade Dr., Wilmington, DE 19810.

Automated Cash Management Trust [File No. 811-3351]

Summary: Applicant seeks an order declaring that it has ceased to be an investment company. On October 28, 1994, applicant transferred its assets to Money Market Obligations Trust based on net asset value. Applicant incurred no expenses in connection with the reorganization.

Filing Date: The application was filed on August 31, 2001.

Applicant's Address: 5800 Corporate Dr., Pittsburgh, PA 15237-7000.

New York Municipal Cash Trust [File No. 811-3432]

Summary: Applicant seeks an order declaring that it has ceased to be an investment company. On September 2, 1994, applicant transferred its assets to Federated Municipal Trust based on net asset value. Applicant incurred no expenses in connection with the reorganization.

Filing Dates: The application was filed on August 6, 2001, and amended on September 26, 2001.

Applicant's Address: Federated Investors Tower, 1001 Liberty Avenue, Pittsburgh, PA 15222-3779.

Beacon Global Advisors Trust [File No. 811-7879]

Summary: Applicant seeks an order declaring that it has ceased to be an investment company. On May 31, 2000, applicant made a liquidating distribution to its shareholders based on net asset value. Expenses of $7250 incurred in connection with the liquidation were paid by applicant and its advisor, Beacon Global Advisors, Inc.

Filing Dates: The application was filed on August 29, 2001, and amended on September 21, 2001.

Applicant's Address: Beacon Global Advisors, Inc., 4550 Montgomery Ave., Suite 302N, Bethesda, MD 20814.

Targeted Duration Trust [File No. 811-6085]

Summary: Applicant seeks an order declaring that it has ceased to be an investment company. By November 14, 1991, all shareholders of applicant had voluntarily redeemed their shares at net asset value. Applicant incurred no expenses in connection with the liquidation.

Filing Dates: The application was filed on June 6, 2001, and amended on September 26, 2001.

Applicant's Address: 5800 Corporate Dr., Pittsburgh, PA 15237-7000.

For the Commission, by the Division of Investment Management, pursuant to delegated authority.
Margaret H. McFarland,
Deputy Secretary.

[FR Doc. 01-24807 Filed 10-3-01; 8:45 am]

BILLING CODE 8010-01-M